DEPARTMENT OF COMMERCE

International Trade Administration

[A-552-802]

Certain Frozen Warmwater Shrimp From the Socialist Republic of Vietnam: Final Results of Antidumping Duty Administrative Review, 2014-2015

AGENCY: Enforcement and Compliance, International Trade Administration, Department of Commerce.

SUMMARY: On March 10, 2016, the Department of Commerce (“Department”) published in the Federal Register the preliminary results of the tenth administrative review of the antidumping duty order on certain warmwater shrimp from the Socialist Republic of Vietnam (“Vietnam”). Based upon our analysis of the comments and information received, we determine that Stapimex sold subject merchandise at less than normal value (“NV”) during the period of review (“POR”), February 1, 2014, through January 31, 2015.

DATES: Effective September 12, 2016.

FOR FURTHER INFORMATION CONTACT: Irene Gorelik, AD/CVD Operations, Office V, Enforcement and Compliance, International Trade Administration, Department of Commerce, 14th Street and Constitution Avenue NW., Washington, DC 20230; telephone: (202) 482-6905.

SUPPLEMENTARY INFORMATION: On March 10, 2016, the Department published the Preliminary Results.¹ On March 11, 2016, VASEP ² filed surrogate value information rebutting certain surrogate values we applied in the Preliminary Results. We gave interested parties an opportunity to comment on the Preliminary Results. On March 11, 2016, Viet Hai Seafood Co., Ltd. (“Fish One”) requested a public hearing and filed its case brief on April 1, 2016. On April 25, 2016, VASEP filed a case brief. On May 2, 2016, Petitioner ³ and Domestic Processors ⁴ filed their rebuttal briefs. On June 17, 2016, the Department extended the time limit for these final results by 60 days.

¹ See Certain Frozen Warmwater Shrimp From the Socialist Republic of Vietnam: Preliminary Results of Antidumping Duty Administrative Review and Partial Rescission of Review; 2014-2015, 81 FR 12702 (March 10, 2016) (“Preliminary Results”).

² Vietnam Association of Seafood Exporters and Producers (“VASEP”).

³ Ad Hoc Shrimp Trade Action Committee (“Petitioner”).

⁴ American Shrimp Processors Association (“Domestic Processors”).

On July 6, 2016, VASEP, Petitioner, and Domestic Processors withdrew their requests for review with respect to the Minh Phu Group and requested that the Department exercise its authority to extend the 90-day deadline to withdraw the requests for review and rescind the administrative review, in part, under extraordinary circumstances.⁵ On July 18, 2016, we determined that the parties demonstrated that extraordinary circumstances exist for this segment of the proceeding and, thus, found that good cause existed to extend the deadline to withdraw their respective review requests of the Minh Phu Group, pursuant to 19 CFR 351.302(b). We rescinded the review with respect to the Minh Phu Group on July 22, 2016.⁶

⁵ See Withdrawal of Review Requests from VASEP, Petitioner and Domestic Processors, dated July 6, 2016.

⁶ See Certain Frozen Warmwater Shrimp From the Socialist Republic of Vietnam: Partial Rescission of Antidumping Duty Administrative Reviews (2014-2015; 2015-2016) and Compromise of Outstanding Claims, 81 FR 47758 (July 22, 2016).

Scope of the Order ⁷

⁷ See Notice of Amended Final Determination of Sales at Less Than Fair Value and Antidumping Duty Order: Certain Frozen Warmwater Shrimp From the Socialist Republic of Vietnam, 70 FR 5152 (February 1, 2005) (“Order”).

The merchandise subject to the order is certain frozen warmwater shrimp. The product is currently classified under the following Harmonized Tariff Schedule of the United States item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the order is dispositive. A full description of the scope of the Order is available in the accompanying Issues and Decision Memorandum.⁸

⁸ See Memorandum to Christian Marsh, Acting Assistant Secretary for Enforcement and Compliance, From Gary Taverman, Associate Deputy Assistant Secretary for Antidumping and Countervailing Duty Operations, Certain Frozen Warmwater Shrimp from the Socialist Republic of Vietnam: Issues and Decision Memorandum for the Final Results, (“Issues and Decision Memorandum”) dated concurrently and hereby adopted by this notice.

Analysis of Comments Received

All issues raised in the case and rebuttal briefs by parties to this review are addressed in the accompanying Issues and Decision Memorandum.⁹ A list of the issues which parties raised, and to which we respond in the Issues and Decision Memorandum is attached to this notice as an Appendix. The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly on the internet at http://enforcement.trade.gov/frn/index.html. The signed Issues and Decision Memorandum and electronic versions of the Issues and Decision Memorandum are identical in content.

⁹ Id.

Final Determination of No Shipments

In the Preliminary Results, the Department determined the following companies did not have any reviewable transactions during the POR: (1) BIM Seafood Joint Stock Company; (2) Bien Dong Seafood Co., Ltd.; (3) Cafatex Fishery Joint Stock Corporation; (4) Camranh Seafoods Processing Enterprise Pte.; (5) Coastal Fisheries Development Corporation; (6) Bentre Forestry Aquaproduct Import-Export Joint Stock Company; (7) Fine Foods Co.; (8) Gallant Ocean (Vietnam) Co., Ltd.; (9) Long Toan Frozen Aquatic Products Joint Stock Company; (10) Nhat Duc Co., Ltd.; (11) Ngo Bros Seaproducts Import-Export One Member Company Limited; (12) Thong Thuan Seafood Company Limited; (13) Tacvan Seafoods Company; (14) Tan Phong Phu Seafood Co., Ltd.; and (15) Vinh Hoan Corporation. As we have not received any information to contradict this determination, the Department determines that the above-named companies did not have any reviewable entries of subject merchandise during the POR, and will issue appropriate instructions that are consistent with our “automatic assessment” clarification, for these final results.

Changes Since the Preliminary Results

The Department has made two changes since the Preliminary Results, specific to the granting of a separate rate and the calculation of the separate rate margin. For detailed information, see below and the Issues and Decision Memorandum.

Separate Rates

In the Preliminary Results, we determined that 30 companies ¹⁰ (“Separate Rate Respondents”) in addition to Minh Phu Group and Stapimex ¹¹ met the criteria for separate rate status. We have since rescinded the administrative review for the Minh Phu Group.¹² We have not received any information since the issuance of the Preliminary Results that provides a basis for reconsidering our preliminary separate rate determinations for the remaining 30 companies and the remaining mandatory respondent. However, we have granted separate rate status to one additional applicant that provided evidence of its separate rate eligibility. Thus, for the final results, we have granted this company, Viet Hai Seafood Co., Ltd., a separate rate.

¹⁰ See Issues and Decision Memorandum at Appendix I.

¹¹ Soc Trang Seafood Joint Stock Company (“Stapimex”).

¹² See Certain Frozen Warmwater Shrimp From the Socialist Republic of Vietnam: Partial Rescission of Antidumping Duty Administrative Reviews (2014-2015; 2015-2016) and Compromise of Outstanding Claims, 81 FR 47758 (July 22, 2016).

Rate for Non-Selected Companies

Under section 735(c)(5)(A) of the Act, the all-others rate is normally an amount equal to the weighted average of the estimated weighted average dumping margins established for exporters and producers individually investigated, excluding any zero and de minimis margins, and any margins determined entirely on the basis of facts available. Accordingly, when only one weighted-average dumping margin for an individually investigated respondent is above de minimis and not based entirely on facts available, the separate rate will be equal to that single, above de minimis rate.

In the Preliminary Results, the Department calculated a rate for Stapimex that is not zero, de minimis, or based entirely on facts available, which is unchanged in the final results. As noted above, we have rescinded the administrative review with respect to the other mandatory respondent. Therefore, the Department has assigned to the companies that have not been individually examined but have demonstrated their eligibility for a separate rate a margin of 4.78 percent, which is the rate calculated for Stapimex.

Final Results of Review

In the Preliminary Results, we found that 51 companies (now 50) for which a review was requested have not established eligibility for a separate rate, and thus, we considered them to be part of the Vietnam-wide entity.¹³ The Department's change in policy regarding conditional review of the Vietnam-wide entity applies to this administrative review.¹⁴ Under this policy, the Vietnam-wide entity will not be under review unless a party specifically requests, or the Department self-initiates, a review of the entity. Because no party requested a review of the Vietnam-wide entity, the entity is not under review and the entity's rate is not subject to change. For companies for which a review was requested and that have established eligibility for a separate rate, the Department determines that the following weighted-average dumping margins exist:

¹³ See Preliminary Results, 80 FR 12442 and Appendix II for a full list of the 56 companies; see also Preliminary Decision Memorandum, at 9-10.

¹⁴ See Antidumping Proceedings: Announcement of Change in Department Practice for Respondent Selection in Antidumping Duty Proceedings and Conditional Review of the Nonmarket Economy Entity in NME Antidumping Duty Proceedings, 78 FR 65963 (November 4, 2013).

¹⁵ Due to the issues we have had in the past with variations of exporter names related to this Order, we remind exporters that the names listed below are the exact names, including spelling and punctuation which the Department will provide to CBP and which CBP will use to assess POR entries and collect cash deposits.

Exporter ¹⁵ | Weighted- average margin (percent)
Soc Trang Seafood Joint Stock Company, aka Stapimex | 4.78
Bac Lieu Fisheries Joint Stock Company | 4.78
C.P. Vietnam Corporation | 4.78
Cadovimex Seafood Import-Export and Processing Joint Stock Company | 4.78
Camau Frozen Seafood Processing Import Export Corporation, aka Camau Seafood Factory No. 4 | 4.78
Can Tho Import Export Fishery Limited Company | 4.78
Camau Seafood Processing and Service Joint Stock Corporation | 4.78
Cuulong Seaproducts Company | 4.78
Gallant Dachan Seafood Co., Ltd | 4.78
Green Farms Seafood Joint Stock Company | 4.78
Hai Viet Corporation | 4.78
Investment Commerce Fisheries Corporation | 4.78
Kim Anh Company Limited, aka Kim Anh Co., Ltd | 4.78
Minh Hai Export Frozen Seafood Processing Joint-Stock Company | 4.78
Minh Hai Joint-Stock Seafoods Processing Company | 4.78
Nha Trang Fisheries Joint Stock Company | 4.78
Nha Trang Seafoods Group: Nha Trang Seaproduct Company, aka NT Seafoods Corporation, aka Nha Trang Seafoods—F89 Joint Stock Company, aka NTSF Seafoods Joint Stock Company | 4.78
Ngoc Tri Seafood Joint Stock Company | 4.78
Phuong Nam Foodstuff Corp | 4.78
Quang Minh Seafood Co., Ltd | 4.78
Quoc Viet Seaproducts Processing Trading and Import-Export Co., Ltd | 4.78
Sao Ta Foods Joint Stock Company, aka Fimex VN, aka Saota Seafood Factory | 4.78
Seaprimexco Vietnam | 4.78
Taika Seafood Corporation | 4.78
Thong Thuan Company Limited, aka T&T Co., Ltd | 4.78
Thuan Phuoc Seafoods and Trading Corporation | 4.78
Trong Nhan Seafood Company Limited | 4.78
UTXI Aquatic Products Processing Corporation, aka Hoang Phuong Seafood Factory, aka, Hoang Phong Seafood Factory | 4.78
Viet Foods Co., Ltd | 4.78
Viet Hai Seafood Co., Ltd., aka Vietnam Fish One Co., Ltd | 4.78
Vietnam Clean Seafood Corporation | 4.78
Viet I-Mei Frozen Foods Co., Ltd | 4.78

Disclosure and Public Comment

We will disclose the calculations performed within five days of the date of publication of this notice to parties in this proceeding in accordance with 19 CFR 351.224(b).

Assessment Rates

Pursuant to section 751(a)(2)(A) of the Tariff Act of 1930, as amended (“the Act”) and 19 CFR 351.212(b), the Department will determine, and U.S. Customs and Border Protection (“CBP”) shall assess, antidumping duties on all appropriate entries of subject merchandise in accordance with the final results of this review. The Department intends to issue assessment instructions to CBP 15 days after the date of publication of these final results of review.

For any individually examined respondent whose weighted-average dumping margin is above de minimis (i.e., 0.50 percent), the Department will calculate importer-specific assessment rates on the basis of the ratio of the total amount of dumping calculated for the importer's examined sales and the total entered value of sales. Where we do not have entered values for all U.S. sales to a particular importer/customer, we calculate a per-unit assessment rate by aggregating the antidumping duties due for all U.S. sales to that importer (or customer) and dividing this amount by the total quantity sold to that importer (or customer).¹⁶ To determine whether the duty assessment rates are de minimis, in accordance with the requirement set forth in 19 CFR 351.106(c)(2), we calculated importer- (or customer-) specific ad valorem ratios based on the estimated entered value. Where either a respondent's weighted average dumping margin is zero or de minimis, or an importer- (or customer-) specific ad valorem rate is zero or de minimis, we will instruct CBP to liquidate appropriate entries without regard to antidumping duties.¹⁷

¹⁶ See 19 CFR 351.212(b)(1).

¹⁷ See 19 CFR 352.106(c)(2); Antidumping Proceeding: Calculation of the Weighted-Average Dumping Margin and Assessment Rate in Certain Antidumping Proceedings; Final Modification, 77 FR 8101, 8103 (February 14, 2012) (“Final Modification for Reviews”).

Additionally, consistent with its assessment practice in non-market economy (NME) cases, if the Department continues to determine that an exporter under review had no shipments of the subject merchandise, any suspended entries that entered under that exporter's case number (i.e., at that exporter's rate) will be liquidated at the NME-wide rate.¹⁸

¹⁸ For a full discussion of this practice, see Non-Market Economy Antidumping Proceedings: Assessment of Antidumping Duties, 76 FR 65694 (October 24, 2011).

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be that for the Vietnam-wide entity; and (4) for all non-Vietnam exporters of subject merchandise which have not received their own rate, the cash deposit rate will be the rate applicable to the Vietnam exporter that supplied that non-Vietnam exporter. These deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This determination is issued and published in accordance with sections 751(a)(1) and 777(i)(1) of the Act and 19 CFR 351.221(b)(4).

Dated: September 6, 2016.
Christian Marsh,
Acting Assistant Secretary for Enforcement and Compliance.

Appendix I

I. Summary

II. Background

III. Partial Rescission of Administrative Review

IV. Scope of the Order

V. Discussion of the Issues

General Issues

Comment 1: Differential Pricing

Comment 2: Treatment of Frozen Shrimp Purchases

A. Treatment of Frozen Shrimp Versus Fresh Shrimp

B. Frozen Shrimp Surrogate Value

Surrogate Value Issues

Comment 3: Bangladeshi Inflator Data

Comment 4: Ice Surrogate Value

Comment 5: Byproduct Surrogate Value

Comment 6: Electricity

Company-Specific Issues

Comment 7: Calculation of the Separate Rate Margin

Comment 8: Treatment of Packing Materials as Byproducts

Comment 9: Separate Rate Status for Fish One

Comment 10: Separate Rate Status for MC Seafood

Comment 11: Separate Rate Status for Seaprodex Danang

Comment 12: Separate Rate Status for Additional Trade Names

A. Thuan Phuoc Seafoods and Trading Corporation

B. Sao Ta Seafood Joint Stock Company

C. Vietnam Clean Seafood Corporation

D. C.P. Vietnam Corporation

Recommendation

Appendix II

Companies Subject to Review Determined To Be Part of the Vietnam-Wide Entity

1. Amanda Foods (Vietnam) Ltd. Ngoc Tri Seafood Company (Amanda's affiliate)

2. Amanda Seafood Co., Ltd.

3. An Giang Coffee JSC

4. Anvifish Joint Stock Co.

5. Asia Food Stuffs Import Export Co., Ltd.

6. B.O.P. Limited Co.

7. Binh An Seafood Joint Stock Company

8. Can Tho Agricultural and Animal Product Import Export Company (“CATACO”)

Can Tho Agricultural and Animal Products Imex Company

Can Tho Agricultural and Animal Products Import Export Company (“CATACO”)

Can Tho Agricultural Products

Can Tho Agricultural Products

9. Can Tho Import Export Seafood Joint Stock Company (CASEAMEX)

10. Cau Tre Enterprise (C. T. E.)

11. Cautre Export Goods Processing Joint Stock Company

12. CL Fish Co., Ltd. (Cuu Long Fish Company)

13. Danang Seaproducts Import Export Corporation (“Seaprodex Danang”)

Danang Seaproducts Import-Export Corporation (“Seaprodex Danang”) (and its affiliates)

Danang Seaproducts Import-Export Corporation (and its affiliate, Tho Quang Seafood Processing and Export Company) (collectively “Seaprodex Danang”)

Seaprodex Danang

Tho Quang Co.

Tho Quang Seafood Processing and Export Company

Frozen Seafoods Factory No. 32 (Tho Quang Seafood Processing and Export Company)

14. D&N Foods Processing (Danang Company Ltd.)

15. Duy Dai Corporation

16. Gallant Ocean (Quang Ngai) Co., Ltd.

17. Gn Foods

18. Hai Thanh Food Company Ltd.

19. Hai Vuong Co., Ltd.

20. Han An Trading Service Co., Ltd.

21. Hoang Hai Company Ltd.

22. Hua Heong Food Industries Vietnam Co. Ltd.

23. Huynh Huong Seafood Processing (Huynh Houng Trading and Import Export Joint Stock Company)

24. Interfood Shareholding Co.

25. Khanh Loi Seafood Factory

26. Kien Long Seafoods Co. Ltd.

27. Luan Vo Fishery Co., Ltd.

28. Minh Chau Imp. Exp. Seafood Processing Co., Ltd.

29. Minh Cuong Seafood Import Export Frozen Processing Joint Stock Company (“Minh Cuong Seafood”)

30. Mp Consol Co., Ltd.

31. Ngoc Chau Co., Ltd. and/or Ngoc Chau Seafood Processing Company

32. Ngoc Sinh

Ngoc Sinh Fisheries

Ngoc Sinh Private Enterprises

Ngoc Sinh Seafood Processing Company

Ngoc Sinh Seafood Trading & Processing Enterprise

Ngoc Sinh Seafoods

33. Phu Cuong Jostoco Corp.

Phu Cuong Jostoco Seafood Corporation

34. Quang Ninh Export Aquatic Products Processing Factory

35. Quang Ninh Seaproducts Factory

36. Quoc Ai Seafood Processing Import Export Co., Ltd.

37. S.R.V. Freight Services Co., Ltd.

38. Sustainable Seafood

39. Tan Thanh Loi Frozen Food Co., Ltd.

40. Thanh Doan Seaproducts Import & Export Processing Joint-Stock Company (THADIMEXCO)

41. Thanh Hung Frozen Seafood Processing Import Export Co., Ltd.

42. Thanh Tri Seafood Processing Co. Ltd.

43. Thinh Hung Co., Ltd.

44. Tien Tien Garment Joint Stock Company

45. Tithi Co., Ltd.

46. Trang Khan Seafood Co., Ltd.

47. Viet Cuong Seafood Processing Import Export Joint-Stock Company

48. Vietnam Northern Viking Technologies Co. Ltd.

49. Vinatex Danang

50. Vinh Loi Import Export Company (“VIMEX”)

Vinh Loi Import Export Company (“Vimexco”)

[FR Doc. 2016-21882 Filed 9-9-16; 8:45 a.m.]

BILLING CODE 3510-DS-P